DEPARTMENT OF ENERGY

Federal Energy Regulatory Commission

[Texas Eastern Transmission Corporation; Docket No. CP00-67-000]

Notice of Request Under Blanket Authorization

January 18, 2000.

Take notice that on January 7, 2000, Texas Eastern Transmission Corporation (Texas Eastern), P.O. Box 1642, Houston, Texas 77251-1642, filed in Docket No. CP00-67-000 a request pursuant to Sections 167.205 and 157.208 of the Commission's Regulations under the Natural Gas Act (18 CFR 157.205, 157.208) for authorization to construct, own, operate, and maintain certain facilities (Vermillion Lateral) located in Vermilion County, Illinois and Vermillion County, Indiana, to render interruptible lateral transportation service to Duke Energy Vermillion, LLC (DEV) under Texas Eastern's blanket certificate issued in Docket No. CP82-535-000, pursuant to Section 7(c) of the Natural Gas Act, all as more fully set forth in the request that is on file with the Commission and open to public inspection. This filing may be viewed on the web at http://www.ferc.fed.us/online/rims.htm (call 202-208-2222 for assistance).

Texas Eastern proposes to construct, own, operate, and maintain: (i) a measurement facility which will consist of one 6-inch and one 10-inch ultrasonic meter run plus associated pipline, electronic gas measurement equipment and associated instrumentation (M&R Station); and (ii) the Vermillion Lateral, which will consist of approximately 14.03 miles of 16-inch diameter pipeline that will extend from a proposed interconnect with Midwestern Gas Transmission Company (Midwestern), to be located at milepost 2116−1+9.93 in Vermilion County, Illinois, to the M&R Station which will be located at the interconnection with the DEV Plant at milepost 14.03 in Vermillion county, Indiana.

Texas Eastern states that the estimated cost of the Vermillion Lateral facilities is approximately $13 million dollars and that DEV will reimburse Texas Eastern for 100% of the costs and expenses associated with the construction and installation.

Midwestern proposes to construct, own, and operate an interconnect to be located at the intersection of the Vermillion Lateral and Midwestern's 30-inch mainline pipeline (Line No. 2100) located in Vermilion County, Illinois at milepost 2116−1+9.93, which will be constructed under Midwestern's Part 157 blanket construction certificate.

After receipt of the authorization requested and installation of the facilities for which authorization is requested herein, Texas Eastern states that it will deliver up to 200 MMcfd of natural gas to DEV at the DEV Plant, pursuant to a service agreement entered into under Texas Eastern's open access interruptible Rate Schedule IT-1. Texas Eastern declares that the transportation service to be rendered will have no effect on their peak day or annual deliveries and submits that its proposal herein will be accomplished without detriment or disadvantage to Texas Eastern's other customers.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act.

David P. Boergers,
Secretary.

[FR Doc. 00-1580 Filed 1-21-00 8:45 am]

BILLING CODE 6717-01-M